DEPARTMENT OF THE INTERIOR

Bureau of Land Management

[WY-100-05-1310-DB]

Notice of Meetings of the Pinedale Anticline Working Group's Cultural and Historic Task Group

AGENCY: Bureau of Land Management, Interior.

ACTION: Notice of public meetings.

SUMMARY: In accordance with the Federal Land Policy and Management Act (1976) and the Federal Advisory Committee Act (1972), the U.S. Department of the Interior, Bureau of Land Management (BLM) Pinedale Anticline Working Group (PAWG) Cultural and Historic Task Group (subcommittee) will meet in Pinedale, Wyoming, for two business meetings. Task Group meetings are open to the public.

DATES: The PAWG Cultural and Historic Task Group will meet December 9, 2004, and January 10, 2005. Both meetings will begin at 5 p.m. and adjourn around 8 p.m.

ADDRESSES: The meetings of the PAWG Cultural and Historic Task Group will be held in the conference room of the BLM Pinedale Field Office at 432 E. Mill St., Pinedale, WY.

FOR FURTHER INFORMATION CONTACT: Dave Vlcek or Kierson Crume, BLM/Cultural and HistoricTG Liaisons, Bureau of Land Management, Pinedale Field Office, 432 E. Mill St., Pinedale, WY, 82941, or P.O. Box 768, Pinedale, WY, 82941; 307-367-5327 or 307-367-5343.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field (PAPA) proceeds for the life of the field.

After the ROD was issued, Interior determined that a Federal Advisory Committees Act (FACA) charter was required for this group. The charter was signed by Secretary of the Interior, Gale Norton, on August 15, 2002, and renewed on August 13, 2004. An announcement of committee initiation and call for nominations was published in the Federal Register on February 21, 2003 (68 FR 8522). PAWG members were appointed by Secretary Norton on May 4, 2004.

At their second business meeting, the PAWG established seven resource- or activity-specific Task Groups, including one for Cultural/Historic/Visual Resources. Public participation on the Task Groups was solicited through the media, letters, and word-of-mouth. At their third business meeting, the PAWG determined that visual resources will not be addressed by this Task Group.

The agenda for these meetings will include information gathering and discussion related to developing (a) cultural and historic monitoring plan(s) to assess the impacts from development in the Pinedale Anticline gas field on cultural and historic resources in the field, mitigation opportunities, and identifying who will do and who will pay for the monitoring. Task Group recommendations are due to the PAWG in February, 2005. At a minimum, public comments will be heard just prior to adjournment of the meeting.

Dated: November 8, 2004.
Priscilla E. Mecham,
Field Office Manager.

[FR Doc. 04-25373 Filed 11-15-04; 8:45 am]

BILLING CODE 4310-22-P